Proclamation 8640 of March 24, 2011

Greek Independence Day: A National Day of Celebration of Greek and American Democracy, 2011

By the President of the United States of America

A Proclamation

One hundred ninety years ago, Greece regained its independence and became a symbol of democracy for the world for the second time in history. As America recognizes this milestone in the birthplace of democracy, we also celebrate our warm friendship with Greece and the lasting legacy of Hellenic culture in our own country.

America’s Founders drew upon the core democratic principles developed in ancient Greece as they imagined a new government. Since that time, our Union has strived to uphold the belief that each person has a fundamental right to liberty and participation in the democratic process, and Greece has continued to promote those very principles. Over the centuries these cherished ideals—democracy, equality, and freedom—have inspired our citizens and the world.

The relationship between the United States and Greece extends beyond our common values and is strengthened by the profound influence of Greek culture on our national life. From the architecture of our historic buildings to the lessons in philosophy and literature passed on in our classrooms, America has drawn on the deep intellectual traditions of the Greeks in our own establishment and growth as a nation. Reinforcing the steadfast bonds between our two countries, Americans of Greek descent have maintained the best of their heritage and immeasurably enriched our national character.

The American people stand with Greece to honor the legacy of democracy wrought over 2,000 years ago and its restoration to the Hellenic Republic nearly 200 years ago. As we celebrate the history and values of Greece and the United States, we also look forward to our shared future and recommit to continuing our work as friends and allies.

NOW, THEREFORE, I, BARACK OBAMA, President of the United States of America, by virtue of the authority vested in me by the Constitution and the laws of the United States, do hereby proclaim March 25, 2011, as Greek Independence Day: A National Day of Celebration of Greek and American Democracy. I call upon all the people of the United States to observe this day with appropriate ceremonies and activities.

IN WITNESS WHEREOF, I have hereunto set my hand this twenty-fourth day of March, in the year of our Lord two thousand eleven, and of the Independence of the United States of America the two hundred and thirty-fifth.

[FR Doc. 2011-7502

Filed 3-28-11; 8:45 am]

Billing code 3195-W1-P